NUCLEAR REGULATORY COMMISSION

Sunshine Act; Meeting

AGENCY HOLDING THE MEETING: Nuclear Regulatory Commission.

DATE: Weeks of January 8, 15, 22, 29, February 5, 12, 2001.

PLACE: Commissioners' Conference Room, 11555 Rockville Pike, Rockville, Maryland.

STATUS: Public and closed.

MATTERS TO BE CONSIDERED:

Week of January 8, 2001

Tuesday, January 9, 2001

9:30 a.m.

Briefing on EEO Program (Public Meeting) (Contact: Irene Little, 301-415-7380)

Wednesday, January 10, 2001

9:25 a.m.

Affirmation Session (Public Meeting) (if needed)

9:30 a.m.

Briefing on Status of Nuclear Materials Safety (Public Meeting) (Contact: Claudia Seelig, 301-415-7243)

This meeting will be webcast live at the Web address: www.nrc.gov/live.html.

Week of January 15, 2001—Tentative

Tuesday, January 17, 2001

9:25 a.m.

Affirmation Session (Public Meeting) (If needed)

9:30 a.m.

Briefing on Status of Nuclear Reactor Safety (Public Meeting) (Contact: Mike Case, 301-415-1134)

This meeting will be webcast live at the Web address: www.nrc.gov/live.html.

Week of January 22, 2001—Tentative

There are no meetings scheduled for the Week of January 22, 2001.

Week of January 29, 2001—Tentative

Tuesday, January 30, 2001

9:30 a.m.

Briefing on Status of Nuclear Waste Safety (Public Meeting) (Contact: Claudia Seelig, 301-415-7243)

This meeting will be webcast live at the Website address: www.nrc.gov/live.html.

Wednesday, January 31, 2001

9:25 a.m.

Affirmation Session (Public Meeting) (If needed)

9:30 a.m.

Briefing on Status of OCIO Programs, Performance, and Plans (Public Meeting) (Contact: Donnie Grimsley, 301-415-8702)

This meeting will be webcast live at the Website address: www.nrc.gov/live.html.

Thursday, February 1, 2001

9:30 a.m.

Briefing on Status of OCFO Programs, Performance and Plans (Public Meeting) (Contact: Lars Solander, 301-415-6080)

This meeting will be webcast live at the Website address: www.nrc.gov/live.html.

Week of February 5, 2001—Tentative

There are no meetings scheduled for the Week of February 5, 2001.

Week of February 12, 2001—Tentative

There are no meetings scheduled for the Week of February 12, 2001.

The schedule for Commission meetings is subject to change on short notice. To verify the status of meetings call (recording)—(301) 415-1292.

CONTACT PERSON FOR MORE INFORMATION: David Louis Gamberoni, (301) 415-1651.

The NRC Commission Meeting Schedule can be found on the Internet at: http://www.nrc.gov/SECY/smj/schedule.htm.

This notice is distributed by mail to several hundred subscribers; if you no longer wish to receive it, or would like to be added to it, please contact the Office of the Secretary, Washington, DC 20555 (301-415-1969). In addition, distribution of this meeting notice over the Internet system is available. If you are interested in receiving this Commission meeting schedule electronically, please send an electronic message to dkw@nrc.gov.

Dated: January 4, 2001.
David Louis Gamberoni,
Technical Coordinator, Office of the Secretary.

[FR Doc. 01-669 Filed 1-5-01; 12:32 pm]

BILLING CODE 7590-01-M